DEPARTMENT OF ENERGY

Federal Energy Regulatory Commission

Combined Notice of Filings #1

Take notice that the Commission received the following exempt wholesale generator filings:

Docket Numbers: EG25-333-000.

Applicants: RWE Clean Energy, LLC, Cartwheel BESS, LLC.

Description: Cartwheel BESS, LLC submits Notice of Self-Certification of Exempt Wholesale Generator Status.

Filed Date: 5/20/25.

Accession Number: 20250520-5155.

Comment Date: 5 p.m. ET 6/10/25.

Take notice that the Commission received the following electric rate filings:

Docket Numbers: ER19-31-003.

Applicants: Oregon Clean Energy, LLC.

Description: Compliance filing: Informational Filing Pursuant to Schedule 2 of the PJM OATT to be effective N/A.

Filed Date: 5/20/25.

Accession Number: 20250520-5054.

Comment Date: 5 p.m. ET 6/10/25.

Docket Numbers: ER25-1407-001.

Applicants: CPV Rogue's Wind, LLC.

Description: Tariff Amendment: Response to Deficiency Letter and Request for Tariff Effective Date to be effective 7/20/2025.

Filed Date: 5/20/25.

Accession Number: 20250520-5146.

Comment Date: 5 p.m. ET 6/10/25.

Docket Numbers: ER25-1894-001.

Applicants: Arizona Public Service Company.

Description: Tariff Amendment: Service Agreement No. 432-Amendment No. 1 to be effective 4/1/2025.

Filed Date: 5/19/25.

Accession Number: 20250519-5195.

Comment Date: 5 p.m. ET 6/9/25.

Docket Numbers: ER25-2263-000.

Applicants: PJM Interconnection, L.L.C.

Description: § 205(d) Rate Filing: Amendment to ISA, Service Agreement No. 4534; Queue Position No. AF1-023 to be effective 7/20/2025.

Filed Date: 5/20/25.

Accession Number: 20250520-5039.

Comment Date: 5 p.m. ET 6/10/25.

Docket Numbers: ER25-2264-000.

Applicants: Indiana Michigan Power Company.

Description: § 205(d) Rate Filing: AEPSC submits revised ILDSA w/IMPA—SA No. 1436 to be effective 8/1/2025.

Filed Date: 5/20/25.

Accession Number: 20250520-5042.

Comment Date: 5 p.m. ET 6/10/25.

Docket Numbers: ER25-2265-000.

Applicants: Southwest Power Pool, Inc.

Description: § 205(d) Rate Filing: Revisions to Modify Timelines Relating to Violation Relaxation Limits to be effective 7/20/2025.

Filed Date: 5/20/25.

Accession Number: 20250520-5058.

Comment Date: 5 p.m. ET 6/10/25.

Docket Numbers: ER25-2266-000.

Applicants: Strobe Power NY, LLC.

Description: § 205(d) Rate Filing: Baseline Market-Based Rate Tariff Filing to be effective 7/20/2025.

Filed Date: 5/20/25.

Accession Number: 20250520-5138.

Comment Date: 5 p.m. ET 6/10/25.

Docket Numbers: ER25-2267-000.

Applicants: Tri-State Generation and Transmission Association, Inc.

Description: § 205(d) Rate Filing: Initial Filing of Service Agreement FERC No. 115 to be effective 4/28/2025.

Filed Date: 5/20/25.

Accession Number: 20250520-5144.

Comment Date: 5 p.m. ET 6/10/25.

Docket Numbers: ER25-2268-000.

Applicants: CalPeak Power—Border LLC.

Description: Initial Rate Filing: Baseline new SFA to be effective 5/21/2025.

Filed Date: 5/20/25.

Accession Number: 20250520-5147.

Comment Date: 5 p.m. ET 6/10/25.

Docket Numbers: ER25-2269-000.

Applicants: Hermes BESS LLC.

Description: Initial Rate Filing: Baseline new COC to be effective 5/21/2025.

Filed Date: 5/20/25.

Accession Number: 20250520-5150.

Comment Date: 5 p.m. ET 6/10/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 20, 2025.
Carlos D. Clay,
Deputy Secretary.

[FR Doc. 2025-09425 Filed 5-23-25; 8:45 am]

BILLING CODE 6717-01-P